FEDERAL RESERVE SYSTEM

Formations of, Acquisitions by, and Mergers of Bank Holding Companies; Correction

This notice corrects a notice (FR Doc. 2010-8950) published on page 20364 of the issue for Monday, April 19, 2010.

Under the Federal Reserve Bank of Dallas heading, the entry for Hometown Community Bancorp, Inc. Employee Stock Ownership Plan & Trust, and Hometown Community Bancorp, Inc., both in Morton, Illinois, is revised to read as follows:

A. Federal Reserve Bank of Chicago (Colette A. Fried, Assistant Vice President) 230 South LaSalle Street, Chicago, Illinois 60690-1414:

1. Hometown Community Bancorp, Inc. Employee Stock Ownership Plan & Trust, and Hometown Community Bancorp, Inc., both in Morton, Illinois; to merge with TSB Financial, Inc., and thereby indirectly acquire Tremont Savings Bank, both in Tremont, Illinois.

Comments on this application must be received by May 14, 2010.

Board of Governors of the Federal Reserve System, April 19, 2010.
Robert deV. Frierson,
Deputy Secretary of the Board.

[FR Doc. 2010-9306 Filed 4-21-10; 8:45 am]

BILLING CODE 6210-01-S